DEPARTMENT OF TRANSPORTATION

Federal Aviation Administration

14 CFR Part 39

[Docket No. FAA-2018-0866; Product Identifier 2018-SW-083-AD]

RIN 2120-AA64

Airworthiness Directives; Bell Helicopter Textron Inc. Helicopters

AGENCY: Federal Aviation Administration (FAA), DOT.

ACTION: Notice of proposed rulemaking (NPRM).

SUMMARY: We propose to supersede airworthiness directive (AD) 2011-12-08 for Bell Helicopter Textron Inc. (Bell) Model 205A, 205A-1, 205B, 212, 412, 412CF, and 412EP helicopters. AD 2011-12-08 requires a one-time inspection of the tail rotor (T/R) blade for corrosion and pitting. Since we issued AD 2011-12-08, Bell has implemented new manufacturing and inspection procedures that correct the unsafe condition on more recently manufactured T/R blades. This proposed AD would retain the requirements of AD 2011-12-08 while excluding certain T/R blades from the applicability. The actions of this proposed AD are intended to address an unsafe condition on these products.

DATES: We must receive comments on this proposed AD by June 10, 2019.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2018-0866; or in person at Docket Operations between 9 a.m. and 5 p.m., Monday through Friday, except Federal holidays. The AD docket contains this proposed AD, the economic evaluation, any comments received and other information. The street address for Docket Operations (telephone 800-647-5527) is in the ADDRESSES section. Comments will be available in the AD docket shortly after receipt.

For service information identified in this proposed rule, contact Bell Helicopter Textron, Inc., P.O. Box 482, Fort Worth, TX 76101; telephone (817) 280-3391; fax (817) 280-6466; or at http://www.bellcustomer.com/files/. You may review service information at the FAA, Office of the Regional Counsel, Southwest Region, 10101 Hillwood Pkwy., Room 6N-321, Fort Worth, TX 76177.

FOR FURTHER INFORMATION CONTACT: Daniel Moore, Aviation Safety Engineer, DSCO Branch, Compliance and Airworthiness Division, FAA, 10101 Hillwood Pkwy., Fort Worth, TX 76177; telephone 817-222-5418; email daniel.e.moore@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We issued AD 2011-12-08, Amendment 39-16715 (76 FR 35334, June 17, 2011) (AD 2011-12-08) for Bell Model 205A, 205A-1, 205B, 212, 412, 412CF, and 412EP helicopters with a T/R blade, part number 212-010-750 (all dash numbers), all serial numbers (S/Ns) except those with a prefix of “A” and the number 17061 or larger. AD 2011-12-08 requires a one-time inspection of the T/R blade for corrosion and pitting after sanding the paint from the spar area between blade stations 22.5 and 40.0, and repairing or replacing the T/R blade if corrosion or pitting is discovered. AD 2011-12-08 was prompted by a report from Bell that T/R blades with certain S/Ns may have manufacturing anomalies, identified as pits or corrosion, in the spar area as a result of the chemical milling process. The actions in AD 2011-12-08 are intended to detect corrosion or pitting in the forward spar area of a T/R blade to prevent a crack in the T/R blade, loss of the T/R blade, and subsequent loss of helicopter control.

Actions Since AD 2011-12-08 Was Issued

Since we issued AD 2011-12-08, Bell has implemented new manufacturing and inspection procedures for its T/R blades. These recently-manufactured T/R blades have a prefix of “BH” before the S/N and are not subject to the unsafe condition. Therefore, we propose to supersede AD 2011-12-08 to remove these blades from the applicability of the AD. This proposed AD would not change the inspection requirements.

Additionally, since AD 2011-12-08 was issued, the FAA's Aircraft Certification Service has changed its organization structure. The new structure replaces product directorates with functional divisions. We have revised some of the office titles and nomenclature throughout this proposed AD to reflect the new organizational changes. Information about the new structure can be found in the Notice published on July 25, 2017 (82 FR 34564).

FAA's Determination

We are proposing this AD because we evaluated all the relevant information and determined the unsafe condition described previously is still likely to exist or develop in other products of these same type designs.

Related Service Information Under 1 CFR Part 51

We have reviewed the following Bell Alert Service Bulletins, all Revision A, and all dated December 8, 2009, which specify a one-time inspection of the T/R blades for corrosion or pitting, and repairing or replacing the T/R blade if corrosion, pitting, or other damage is discovered:

• Alert Service Bulletin (ASB) No. 205-09-102, for Model 205A and 205A-1 helicopters;

• ASB No. 205B-09-54, for Model 205B helicopters;

• ASB No. 212-09-134, for Model 212 helicopters;

• ASB No. 412-09-136, for Model 412 and 412EP helicopters; and

• ASB No. 412CF-09-38, for Model 412CF helicopters.

This service information is reasonably available because the interested parties have access to it through their normal course of business or by the means identified in the ADDRESSES section.

Proposed AD Requirements

This proposed AD would continue to require inspecting the T/R blades for corrosion and pitting in the forward spar area by following specified portions of Bell's service information. In addition to those serial-numbered blades that are exempt from the applicability, this proposed AD would exclude blades with a S/N prefix of “BH.”

Costs of Compliance

We estimate that this proposed AD would affect 384 helicopters of U.S. Registry and that labor costs average $85 per work hour. Based on these estimates, we expect the following costs:

• Inspecting a T/R blade would require about 10 work-hours and no parts for a cost of $850 per helicopter and $326,400 for the U.S. fleet.

• Repairing a T/R blade would require 10 work-hours and parts would cost $750 for a cost of $1,600 per helicopter.

• Replacing a T/R blade would require about 10 work-hours and $28,120 for parts for a cost of $28,970 per blade.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-12-08, Amendment 39-16715 (76 FR 35334, June 17, 2011), and adding the following new AD:

Bell Helicopter Textron Inc. (Bell): Docket No. FAA-2018-0866; Product Identifier 2018-SW-083-AD.

(a) Applicability

This AD applies to Bell Model 205A, 205A-1, 205B, 212, 412, 412CF, and 412EP helicopters, certificated in any category, with a tail rotor (T/R) blade part number 212-010-750 (all dash numbers) installed, all serial numbers (S/Ns) except:

(i) S/Ns with a prefix of “BH”; or

(ii) S/Ns with a prefix of “A” and a number 17061 or larger.

(b) Unsafe Condition

This AD defines the unsafe condition as a pit or corrosion in the forward spar of a T/R blade. This condition could result in a crack in the T/R blade, loss of the T/R blade, and subsequent loss of control of the helicopter.

(c) Affected ADs

This AD replaces AD 2011-12-08, Amendment 39-16715 (76 FR 35334, June 17, 2011) (AD 2011-12-08).

(d) Comments Due Date

We must receive comments by June 10, 2019.

(e) Compliance

You are responsible for performing each action required by this AD within the specified compliance time unless it has already been accomplished prior to that time.

(f) Required Actions

(1) Within 25 hours time-in-service or 30 days, whichever occurs first:

(i) Remove the T/R hub and blade assembly from the helicopter and remove the T/R blade from the hub. Remove the paint from the spar area on both sides of the T/R blade by following the Accomplishment Instructions, paragraphs 3. through 5., of the following Bell Alert Service Bulletins, all Revision A, and all dated December 8, 2009: Alert Service Bulletin (ASB) No. 205-09-102 for the Model 205A and 205A-1 helicopters; ASB No. 205B-09-54 for the Model 205B helicopters; ASB No. 212-09-134 for the Model 212 helicopters; ASB No. 412CF-09-38 for the Model 412CF helicopters; and ASB No. 412-09-136 for the Model 412 and 412EP helicopters.

(ii) Using a 3-power or higher magnifying glass, visually inspect both sides of the T/R blade for any corrosion or pitting in the spar inspection areas as depicted in Figure 1 of the ASB for your model helicopter.

(2) Before further flight:

(i) If you find any corrosion or pitting that is 0.003 inch deep or less, either replace the T/R blade with an airworthy T/R blade or repair the T/R blade.

(ii) If you find any corrosion or pitting that is greater than 0.003 inch deep, replace the T/R blade with an airworthy T/R blade.

(iii) If any parent material is removed during the sanding operation required by paragraph (f)(1)(i) of this AD, either replace the T/R blade with an airworthy T/R blade, or repair the T/R blade if the parent material removed is within the maximum repair damage limits.

(iv) If there is no corrosion or pitting and no damage greater than 0.003 inch deep, refinish the inspection areas and reinstall each T/R blade onto the T/R hub, install the T/R assembly on the helicopter and track and balance the T/R in accordance with the Accomplishment Instructions, paragraphs 8. through 10., of the ASB for your model helicopter.

(g) Credit for Previous Actions

Actions accomplished before the effective date of this AD in accordance with the procedures specified in AD 2011-12-08 are acceptable for compliance with the corresponding actions specified in paragraph (f) of this AD.

(h) Alternative Methods of Compliance (AMOCs)

(1) The Manager, DSCO, FAA, may approve AMOCs for this AD. Send your proposal to: Daniel Moore, Aviation Safety Engineer, DSCO Branch, Compliance & Airworthiness Division, FAA, 10101 Hillwood Pkwy., Fort Worth, TX 76177; telephone 817-222-5418; email 9-ASW-190-COS@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(i) Subject

Joint Aircraft Service Component (JASC) Code: 6410, Tail Rotor Blades.

Issued in Fort Worth, Texas, on March 29, 2019.
Lance T. Gant,
Director, Compliance & Airworthiness Division, Aircraft Certification Service.

[FR Doc. 2019-07176 Filed 4-10-19; 8:45 am]

BILLING CODE 4910-13-P